DEPARTMENT OF HOMELAND SECURITY

Federal Emergency Management Agency

[Docket ID FEMA-2021-0002; Internal Agency Docket No. FEMA-B-2105]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 6, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2105, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Ford County, Illinois and Incorporated Areas
Project: 17-05-1609S Preliminary Date: October 1, 2019 and October 12, 2020
City of Gibson City | City Hall, 101 East 8th Street, Gibson City, IL 60936.
Unincorporated Areas of Ford County | Ford County Courthouse, 200 West State Street, Paxton, IL 60957.
Ida County, Iowa and Incorporated Areas
Project: 16-07-2280S Preliminary Date: March 17, 2020
City of Arthur | City Hall, 217 South Main Street, Arthur, IA 51431.
City of Battle Creek | City Hall, 115 Main Street, Battle Creek, IA 51006.
City of Galva | City Hall, 116 South Main Street, Galva, IA 51020.
City of Holstein | City Hall, 119 South Main Street, Holstein, IA 51025.
City of Ida Grove | City Hall, 403 3rd Street, Ida Grove, IA 51445.
Unincorporated Areas of Ida County | Ida County Courthouse, 401 Moorehead Street, Ida Grove, IA 51445.
Johnson County, Iowa and Incorporated Areas
Project: 17-07-0294S Preliminary Date: January 23, 2020
City of Coralville | City Hall, 1512 7th Street, Coralville, IA 52241.
City of Hills | City Office, 201 North 1st Street, Hills, IA 52235.
City of Iowa City | Civic Center, 410 East Washington Street, Iowa City, IA 52240.
City of Lone Tree | City Hall, 123 North Devoe Street, Lone Tree, IA 52755.
City of North Liberty | City Hall, 3 Quail Creek Circle, North Liberty, IA 52317.
City of Oxford | City Hall, 205 North Augusta Avenue, Oxford, IA 52322.
City of Shueyville | Shueyville City Hall, 2863 120th Street Northeast, Swisher, IA 52338.
City of Solon | City Hall, 101 North Iowa Street, Solon, IA 52333.
City of Swisher | City Hall, 66 2nd Street Southwest, Swisher, IA 52338.
City of Tiffin | City Hall, 300 Railroad Street, Tiffin, IA 52340.
Unincorporated Areas of Johnson County | Johnson County Planning and Zoning, 913 South Dubuque Street, Iowa City, IA 52240.
Union County, Iowa and Incorporated Areas
Project: 19-07-0031S Preliminary Date: March 2, 2020
City of Creston | City Offices, 116 West Adams Street, Creston, IA 50801.
Unincorporated Areas of Union County | Union County Emergency Management Office, 705 East Taylor Street, Creston, IA 50801.
Harney County, Oregon and Incorporated Areas
Project: 11-10-0409S Preliminary Date: June 28, 2019 and October 15, 2020
Burns Paiute Reservation | Burns Paiute Tribal Office, 100 Pasigo Street, Burns, OR 97720.
City of Burns | City Hall, 242 South Broadway Avenue, Burns, OR 97720.
City of Hines | City Hall, 101 East Barnes Avenue, Hines, OR 97738.
Unincorporated Areas of Harney County | Harney County Planning Department, 360 North Alvord Avenue, Burns, OR 97720.

[FR Doc. 2021-02430 Filed 2-4-21; 8:45 am]

BILLING CODE 9110-12-P